DEPARTMENT OF STATE

[Public Notice 8296]

60-Day Notice of Proposed Information Collection: U.S. Passport Renewal Application for Eligible Individuals

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 25, 2013.

ADDRESSES: You may submit comments by any of the following methods:

• Web: Persons with access to the Internet may use the Federal Docket Management System (FDMS) to comment on this notice by going to www.Regulations.gov. You can search for the document by entering “Public Notice 8296” in the Search bar. If necessary, use the Narrow by Agency filter option on the Results page.

• Email: PPTFormsOfficer@state.gov.

• Mail: PPT Forms Officer, U.S. Department of State, 2100 Pennsylvania Avenue NW., Room 3030, Washington, DC 20037.

• Fax: (202) 663-2410.

• Hand Delivery or Courier: PPT Forms Officer, U.S. Department of State, 2100 Pennsylvania Avenue NW., Room 3030, Washington, DC 20037.

You must include the DS form number (if applicable), information collection title, and the OMB control number in any correspondence.

FOR FURTHER INFORMATION CONTACT: Direct requests for additional information regarding the collection listed in this notice, including requests for copies of the proposed collection instrument and supporting documents, to PPT Forms Officer, U.S. Department of State, 2100 Pennsylvania Avenue NW., Room 3030, Washington, DC 20037, who may be reached on (202) 663-2457 or at PPTFormsOfficer@state.gov.

SUPPLEMENTARY INFORMATION:

• Title of Information Collection: U.S. Passport Renewal Application For Eligible Individuals.

• OMB Control Number: 1405-0020.

• Type of Request: Revision of a Currently Approved Collection.

• Originating Office: Bureau of Consular Affairs, Passport Services, Office of Program Management and Operational Support, Program Coordination Division (CA/PPT/S/PMO/PC).

• Form Number: DS-82.

• Respondents: Individuals or Households.

• Estimated Number of Respondents: 4,215,761.

• Estimated Number of Responses: 4,215,761.

• Average Time per Response: 40 minutes/0.66 hour.

• Total Estimated Burden Time: 2,782,402.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected on the DS-82 is used to facilitate the issuance of passports to U.S. citizens and nationals. The primary purpose of soliciting the information is to establish citizenship, identity, and entitlement to the issuance of the U.S. passport or related service, and to properly administer and enforce the laws pertaining to the issuance thereof.

The DS-82 solicits data necessary for Passport Services to issue a United States passport (book and/or card format) in the exercise of authorities granted to the Secretary of State in 22 United States Code (U.S.C.) Section 211a et seq. and Executive Order (EO) 11295 (August 5, 1966) for the issuance of passports to U.S. nationals.

The issuance of U.S. passports requires the determination of identity, nationality, and entitlement, with reference to the provisions of Title III of the Immigration and Nationality Act (INA) (8 U.S.C. sections 1401-1504), the 14th Amendment to the Constitution of the United States, other applicable treaties and laws and implementing regulations at 22 CFR part 50 and 51. The specific regulations pertaining to the Application for a U.S. Passport by Mail are at 22 CFR 51.20 and 51.21.

Methodology

Passport Services collects information from U.S. citizens and non-citizen nationals who complete and submit the Application for a U.S. Passport by Mail. Passport applicants can either download the DS-82 from the internet or obtain one from an Acceptance Facility/Passport Agency. The form must be completed, signed, and submitted along with the applicant's previous U.S. passport.

U.S. citizens overseas may download the DS-82 from the Internet or obtain one from the nearest U.S. Embassy or Consulate. As noted on the form, U.S. citizens overseas (except Canada) must apply for their passport at the nearest U.S. Embassy or Consulate in accordance with instructions on the Embassy/Consulate Web site.

Additional Information

In addition to general format changes, the following content changes have been made to the form:

• Page 1, Instructions: Under the heading, “Can I Use This Form?”, the following new statement and “yes” and “no” checkboxes were added:

“My U.S. passport has not been limited from the normal ten year validity period due to passport damage/mutilation, multiple passport thefts/losses, or non-compliance with 22 CFR 51.41. (Please refer to the back pages of your U.S. passport book for endorsement information.)”

• Page 1, Instructions: In the third section that begins “U.S. PASSPORTS, EITHER IN BOOK OR CARD FORMAT, ARE ISSUED * * *”, the following statement was added at the end of this section:

“PLEASE NOTE: YOUR NEW PASSPORT WILL HAVE A DIFFERENT PASSPORT NUMBER THAN YOUR PREVIOUS PASSPORT.”

• Page 2, Instructions: In sentence 2), “A Marriage Certificate * * *” the word “certified” has been added before “Marriage”. Also, parentheses and the words “(Photocopies are not accepted)” have been added at the end of the sentence.

• Page 2, Instructions: Under “Where Do I Mail This Application?”, the following change has occurred:

“Note Regarding Mailing Addresses:”, in the third sentence, the telephone number and words “at 1-877-487-2778 or visit travel.state.gov” have been added at the end of the sentence.

• Page 3, Instructions: At the bottom of the page, a new section was added with the heading:

“Special Notice to U.S. Passport Card Applicants Only”.

The section text follows:

“The maximum number of letters provided for your given name (first and middle) on the U.S. passport card is 24 characters. The 24 characters may be shortened due to printing restrictions. If both your given names are more than 24 characters, you must shorten one of your given names you list on item 1 of this form.

• Page 1, Form: For Line Item 8, the following changes have occurred:

○ Mailing Address, Line 1: Replaced “Street/RFD#, P.O. Box, or URB” with “(Street/RFD#, URB, or P.O. Box, Apt/Unit, In Care Of or Attn (e.g., In Care Of—Jane Doe, Apt # 100))”.

○ Mailing Address, Address Line 2: Replaced “Clearly label Apartment, Company, Suite, Unit, Building, Floor, In Care Of or Attention if applicable. (e.g., In Care Of—Jane Doe, Apt # 100)” with “(If applicable)”.

• In the photograph box, the words “Submit a recent color photograph” have been replaced with “Attach a color photograph taken within the last six months”.

• Under Line Item 11, “Please submit a certified copy of your marriage * * *”, the language has been revised to now read “Please submit a certified copy. (Photocopies are not accepted!)”.

• In the section at the bottom of the page “For Issuing Office Only”, the letters “BK” were added between “PPT C/R” and “PPT S/R” to now read “PPT BK C/R” and “PPT BK S/R”.

• In the section at the bottom of the page “For Issuing Office Only”, two additional “checkboxes” and the words “PPT CD C/R” and “PPT CD S/R” were added after “PPT BK S/R”.

• Page 2, Form: For Line Item 20, the following changes have occurred:

○ The words “Date of Trip” have been replaced with “Departure Date”.

○ The words “Duration of Trip” have been replaced with “Return Date”.

The Department estimates that these changes will not result in an increase in the current burden time of 40 minutes.

Dated: April 16, 2013.
Brenda S. Sprague,
Deputy Assistant Secretary for Passport Services, Bureau of Consular Affairs, Department of State.

[FR Doc. 2013-09953 Filed 4-25-13; 8:45 am]

BILLING CODE 4710-06-P